DEPARTMENT OF JUSTICE

Drug Enforcement Administration

Steven Tyler Everett, M.D.; Revocation of Registration

On May 28, 2002, the Deputy Assistant Administrator, Office of Diversion Control, Drug Enforcement Administration (DEA), issued an Order to Show Cause to Steven Tyler Everett, M.D. (Dr. Everett) of Port St. Lucie, Florida, notifying him of an opportunity to show cause as to why DEA should not revoke his DEA Certificate of Registration, BE4443064 under 21 U.S.C. 824(a), and deny any pending applications for renewal or modification of that registration. As a basis for revocation, the Order to Show Cause alleged that Dr. Everett is not currently authorized to practice medicine or handle controlled substances in Florida, the State in which he practices. The order also notified Dr. Everett that should no request for a hearing be filed within 30 days, his hearing right would be deemed waived.

The Order to Show Cause was sent by certified mail to Dr. Everett at his registered location in Port St. Lucie, Florida. On June 17, 2002, DEA received an undated signed receipt indicating that the Order to Show Cause was received on his behalf. DEA has not received a request for hearing or any other reply from Dr. Everett or anyone purporting to represent him in this matter. Therefore, the Deputy Administrator, finding that (1) 30 days have passed since the receipt of the Order to Show Cause, and (2) no request for a hearing having been received, concludes that Dr. Everett is deemed to have waived his hearing right. After considering material from the investigative file in this matter, the Deputy Administrator now enters his final order without a hearing pursuant to 21 CFR 1301.43 (d) and (e) and 1301.46.

The Deputy Administrator finds that Dr. Everett currently possesses DEA Certificate of Registration BE4443064 and that registration remains valid until August 31, 2004. The Deputy Administrator further finds that on July 10, 2001, the State of Florida, Department of Health (Department of Health) filed a three-count Administrative Complaint against Dr. Everett seeking the revocation of his medical license. As a basis for revocation, the Department of Health alleged, inter alia, that Dr. Everett engaged in a sexual relationship with a patient and that he committed fraud in the practice of medicine by writing a prescription for injectable Demerol (a Schedule II controlled substance) in the name of one patient while knowing the drug was intended for and would be used by another.

On October 23, 2001, the Department of Health issued a Final Order, revoking Dr. Everett's license to practice medicine. The investigative file contains no evidence that the Final Order has been stayed or that Dr. Everett's medical license has been reinstated. Therefore, the Deputy Administrator finds that Dr. Everett is not currently authorized to practice medicine in the State of Florida. As a result, it is reasonable to infer that he is also without authorization to handle controlled substances in that State.

DEA does not have statutory authority under the Controlled Substances Act to issue or maintain a registration if the applicant or registrant is without State authority to handle controlled substances in the State in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear that Dr. Everett's medical license has been revoked and he is not licensed to handle controlled substances in the State of Florida, where he is registered with DEA. Therefore, he is not entitled to a DEA registration in that State.

Accordingly, the Deputy Administrator of the Drug Enforcement Administration, pursuant to the authority vested in him by 21 U.S.C. 823 and 824 and 828 CFR 0.100(b) and 0.104, hereby orders that DEA Certificate of Registration BE4443064, issued to Steven Tyler Everett, MD., be, and it hereby is revoked. The Deputy Administrator further orders that any pending applications for renewal of such registration be, and they hereby are denied. This order is effective November 22, 2002.

Dated: September 30, 2002.
John B. Brown, III,
Deputy Administrator.

[FR Doc. 02-26966 Filed 10-22-02; 8:45 am]

BILLING CODE 4410-09-M